DEPARTMENT OF COMMERCE

National Oceanic and Atmospheric Administration

[I.D. 101806A]

Pacific Fishery Management Council; Public Meeting

AGENCY: National Marine Fisheries Service (NMFS), National Oceanic and Atmospheric Administration (NOAA), Commerce.

ACTION: Notice of public meeting.

SUMMARY: The Pacific Fishery Management Council's (Council) Ad Hoc Groundfish Trawl Individual Quota Committee (TIQC) will hold a working meeting which is open to the public.

DATES: The TIQC working meeting will begin Monday, November 6, 2006, at 8:30 a.m. and may go into the evening, if necessary, to complete business for the day. On Tuesday, November 7, 2006, the meeting will reconvene from 8:30 a.m. and continue until business for the day is complete. On Wednesday, November 8, 2006, the meeting will reconvene from 8:30 a.m. and continue until 3 p.m.

ADDRESSES: The meeting will be held in Room 1052, Building 4, National Marine Fisheries Service, 7600 Sand Point Way NE, Seattle, WA 98115; telephone: (206) 526-4656.

Council address: Pacific Fishery Management Council, 7700 NE Ambassador Place, Suite 200, Portland, OR 97220-1384.

FOR FURTHER INFORMATION CONTACT: Mr. Jim Seger, Staff Officer (Economist); telephone: (503) 820-2280.

SUPPLEMENTARY INFORMATION: The Council is considering an individual quota program to cover limited entry trawl landings in the West Coast groundfish fishery. The purpose of the TIQC working meeting is to review and further develop alternatives under analysis, with particular emphasis on co-op alternatives for whiting sectors and review of Groundfish Management Team comments from the September Council meeting.

Although non-emergency issues not contained in the TIQC meeting agenda may come before the TIQC for discussion, those issues may not be the subject of formal TIQC action during these meetings. TIQC action will be restricted to those issues specifically listed in this notice and to any issues arising after publication of this notice requiring emergency action under Section 305(c) of the Magnuson-Stevens Fishery Conservation and Management Act, provided the public has been notified of the TIQC's intent to take final action to address the emergency.

Special Accommodations

The meeting is physically accessible to people with disabilities. Requests for sign language interpretation or other auxiliary aids should be directed to Ms. Carolyn Porter at (503) 820-2280 at least 5 days prior to the meeting date.

Dated: October 18, 2006.
Tracey L. Thompson,
Acting Director, Office of Sustainable Fisheries, National Marine Fisheries Service.

[FR Doc. E6-17645 Filed 10-20-06; 8:45 am]

BILLING CODE 3510-22-S